DEPARTMENT OF TRANSPORTATION

Federal Aviation Administration

14 CFR Part 39

[Docket No. FAA-2004-19762; Directorate Identifier 2004-NM-168-AD; Amendment 39-14038; AD 2005-07-14]

RIN 2120-AA64

Airworthiness Directives; Airbus Model A318, A319, A320, and A321 Series Airplanes

AGENCY: Federal Aviation Administration (FAA), Department of Transportation (DOT).

ACTION: Final rule.

SUMMARY: The FAA is adopting a new airworthiness directive (AD) for all Airbus Model A318, A319, A320, and A321 series airplanes. This AD requires an inspection of the spoiler servo control for certain part numbers, and corrective action if necessary. This AD is prompted by a report of a broken piston rod bearing of the spoiler servo control. We are issuing this AD to prevent breakage of the piston rod bearing, which could cause loss of the associated hydraulic system and spoiler extension, and could result in reduced controllability of the airplane.

DATES: This AD becomes effective May 12, 2005.

The incorporation by reference of certain publications listed in the AD is approved by the Director of the Federal Register as of May 12, 2005.

ADDRESSES: For service information identified in this AD, contact Airbus, 1 Rond Point Maurice Bellonte, 31707 Blagnac Cedex, France.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2004-19762; the directorate identifier for this docket is 2004-NM-168-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: The FAA proposed to amend 14 CFR Part 39 with an AD for all Airbus Model A318, A319, A320, and A321 series airplanes. That action, published in the Federal Register on December 7, 2004 (69 FR 70568), proposed to require an inspection of the spoiler servo control for certain part numbers and corrective action if necessary.

Comments

We provided the public the opportunity to participate in the development of this AD. We have considered the comments that have been submitted on the proposed AD.

Request To Change Applicability

One commenter asks that the applicability statement in the proposed AD be changed. The commenter states that, as written, the applicability does not limit the effectivity, but instead applies to every Model A318, A319, A320, and A321 series airplane previously delivered or that is yet to be delivered. The commenter adds that the proposed visual inspection would have to be done regardless of the documented status of the spoiler servo controls, which introduces unnecessary maintenance activity. The commenter notes that paragraph (j) of the proposed AD prohibits installation of an affected spoiler servo control on any airplane; therefore, the applicability statement could be altered to limit the effectivity to those airplanes affected by the service bulletins referenced therein. The commenter states that limiting the applicability would apply if supporting documentation is provided which verifies that no spoiler servo control has been changed before the effective date of the AD. The commenter adds that this change would provide assurance that all affected spoiler servo controls are removed from service and would also eliminate unnecessary maintenance activity. The commenter operates 148 Model A319 and A320 series airplanes, but of those airplanes, only one spoiler servo control is affected. The commenter states that the applicability statement, as written, would require that the general visual inspection be done on all 148 airplanes. In conclusion, the commenter states that the applicability should be limited to Model A318, A319, A320, and A321 series airplanes, all certified models, all serial numbers, on which Goodrich spoiler actuators with part number (P/N) 31077-050, -060, -070, -110, or -112 are installed.

We do not agree to change the applicability identified in the proposed AD. As specified in the Differences section of the proposed AD, “French airworthiness directive F-2004-122, dated July 21, 2004, has an effectivity of ‘AIRBUS A318, A319, A320 and A321 aircraft, all certified models, all serials numbers, fitted with GOODRICH spoiler actuators P/N 31077-050, -060, -070, -110 or -112.’ However, because spoiler actuators are interchangeable on Airbus Model A318, A319, A320, and A321 series airplanes, airplanes not fitted with the spoiler actuators P/N 31077-050, -060, -070, -110 or -112 may have a spoiler actuator P/N 31077-050, -060, -070, -110 or -112 installed in the future by operators during normal maintenance. Therefore, the applicability of this proposed AD includes all Airbus Model A318, A319, A320, and A321 series airplanes. Both the proposed AD and French airworthiness directive require an inspection for the part number of the spoiler actuator (spoiler servo control).”

We do agree to allow a review of the airplane maintenance records instead of accomplishing the Phase 1 or Phase 2 inspection. We have changed paragraphs (f) and (g) of this final rule to allow a review of the airplane maintenance records to determine the part number of the spoiler servo controls. However, if the part number cannot be positively identified from the records review, the inspection will need to be done.

Request To Reference New Service Information

One commenter asks that Airbus Service Bulletins A320-27-1158 and A320-27-1159; both Revision 01; both dated September 3, 2004; be included as the sources of service information for accomplishing the inspections in the proposed AD. The original issues of those service bulletins were referenced as the appropriate sources of service information for accomplishing the actions specified in the proposed AD.

We agree with the commenter's request. We have added Revision 01, which is the most current source of service information for the actions in this AD, to this final rule as the source of service information for accomplishing those actions. Revision 01 adds no further work to the original issues of the service bulletin; operators are merely informed that the revised service bulletins are mandatory. We have also added a new paragraph (i) to this final rule which allows credit for actions done in accordance with the original issue of the service bulletins. We have re-identified subsequent paragraphs accordingly.

Conclusion

We have carefully reviewed the available data, including the comments that have been submitted, and determined that air safety and the public interest require adopting the AD with the changes described previously. We have determined that these changes will neither increase the economic burden on any operator nor increase the scope of the AD.

Costs of Compliance

The following table provides the estimated costs for U.S. operators to comply with this AD.

Estimated Costs
Action | Work hours | Average labor rate per hour | Cost per airplane | Number of U.S.- registered airplanes | Fleet cost
Inspection | 3-5 | $65 | $195-$325 | 648 | $126,360-$210,600

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-07-14 Airbus: Amendment 39-14038. Docket No. FAA-2004-19762; Directorate Identifier 2004-NM-168-AD.

Effective Date

(a) This AD becomes effective May 12, 2005.

Affected ADs

(b) None.

Applicability

(c) This AD applies to all Airbus Model A318, A319, A320, and A321 series airplanes; certificated in any category.

Unsafe Condition

(d) This AD was prompted by a report of a broken piston rod bearing of the spoiler servo control. We are issuing this AD to prevent breakage of the piston rod bearing, which could cause loss of the associated hydraulic system and spoiler extension, and could result in reduced controllability of the airplane.

Compliance

(e) You are responsible for having the actions required by this AD performed within the compliance times specified, unless the actions have already been done.

Phase 1 Inspection or Review of Maintenance Records

(f) Within 12 months after the effective date of this AD, do a general visual inspection for the part number (P/N) of the spoiler servo control at the applicable locations specified in Table 1 of this AD, in accordance with Airbus Service Bulletin A320-27-1158, Revision 01, excluding Appendices 01 and 02, dated September 3, 2004. Instead of inspecting the spoiler servo control, a review of the airplane maintenance records is acceptable if the P/N of the spoiler servo control can be conclusively determined from that review.

Note 1: For the purposes of this AD, a general visual inspection is: “A visual examination of an interior or exterior area, installation or assembly to detect obvious damage, failure or irregularity. This level of inspection is made from within touching distance unless otherwise specified. A mirror may be necessary to ensure visual access to all surfaces in the inspection area. This level of inspection is made under normal available lighting conditions such as daylight, hangar lighting, flashlight or droplight and may require removal or opening of access panels or doors. Stands, ladders or platforms may be required to gain proximity to the area being checked.”

Table 1.—Phase 1 Spoiler Servo Control Inspection
For airbus model— | Inspect spoiler servo controls at—
A318 and A319 series airplanes | Positions 2, 3, 4, and 5.
A320 series airplanes | Position 2.
A321 series airplanes | Positions 2, 3, and 4.

Phase 2 Inspection or Review of Maintenance Records

(g) Within 30 months after the effective date of this AD, do a general visual inspection for the P/N of the spoiler servo control at the applicable locations specified in Table 2 of this AD, in accordance with Airbus Service Bulletin A320-27-1159, Revision 01, excluding Appendices 01 and 02, dated September 3, 2004. Instead of inspecting the spoiler servo control, a review of the airplane maintenance records is acceptable if the P/N of the spoiler servo control can be conclusively determined from that review.

Table 2.—Phase 2 Spoiler Servo Control Inspection
For airbus model— | Inspect spoiler servo controls at—
A318 and A319 series airplanes | Position 1.
A320 series airplanes on which Airbus modification 26335 and Airbus Service Bulletin A320-27-1115, dated October 27, 1997; and Revision 01, dated June 22, 1999; has not been done | Positions 1 and 3.
A320 series airplanes on which Airbus modification 26335 or Airbus Service Bulletin A320-27-1115, dated October 27, 1997; or Revision 01, dated June 22, 1999; has been done | Positions 1, 3, 4, and 5.
A321 series airplanes | Positions 1 and 5.

Corrective Action

(h) If, during any inspection specified in paragraph (f) or (g) of this AD, P/N 31077-050, -060, -070, -110, or -112 is found or if unable to determine the P/N, before further flight, replace the spoiler servo control with a new or modified spoiler servo control, in accordance with Airbus Service Bulletin A320-27-1158 or A320-27-1159; both Revision 01; both excluding Appendices 01 and 02; both dated September 3, 2004; as applicable.

Note 2: Airbus Service Bulletins A320-27-1158, Revision 01; and A320-27-1159, Revision 01; refer to Goodrich Service Bulletin 31077-27-14, dated May 24, 2004; as an additional source of service information for modifying the spoiler servo control.

Actions Accomplished Per Previous Issues of Service Information

(i) Actions accomplished before the effective date of this AD in accordance with Airbus Service Bulletin A320-27-1158; or Airbus Service Bulletin A320-27-1159; both excluding Appendices 01 and 02; both dated May 26, 2004; are considered acceptable for compliance with the corresponding actions required by this AD.

Reporting Not Required

(j) Although Airbus Service Bulletin A320-27-1158, Revision 01, dated September 3, 2004; and Airbus Service Bulletin A320-27-1159, Revision 01, dated September 3, 2004; specify to submit certain information to the manufacturer, this AD does not include that requirement.

Parts Installation

(k) As of the effective date of this AD, no person may install a spoiler servo control, P/N 31077-050, -060, -070, -110, or -112, on any airplane, unless it has been modified according to Airbus Service Bulletin A320-27-1158 or A320-27-1159; both Revision 01; both excluding Appendices 01 and 02; both dated September 3, 2004.

Alternative Methods of Compliance (AMOCs)

(l) The Manager, International Branch, ANM-116, Transport Airplane Directorate, FAA, has the authority to approve AMOCs for this AD, if requested in accordance with the procedures found in 14 CFR 39.19.

Related Information

(m) French airworthiness directive F-2004-122, dated July 21, 2004, also addresses the subject of this AD.

Material Incorporated by Reference

(n) You must use Airbus Service Bulletin A320-27-1158, Revision 01, excluding Appendices 01 and 02, dated September 3, 2004; and Airbus Service Bulletin A320-27-1159, Revision 01, excluding Appendices 01 and 02, dated September 3, 2004; as applicable; to perform the actions that are required by this AD, unless the AD specifies otherwise. The Director of the Federal Register approves the incorporation by reference of these documents in accordance with 5 U.S.C. 552(a) and 1 CFR part 51. To get copies of the service information, go to Airbus, 1 Rond Point Maurice Bellonte, 31707 Blagnac Cedex, France. To view the AD docket go to the Docket Management Facility, U.S. Department of Transportation, 400 Seventh Street SW, room PL-401, Nassif Building, Washington, DC. To review copies of the service information, go to the National Archives and Records Administration (NARA), call (202) 741-6030, or go to http://www.archives.gov/federal_register/code_of_federal_regulations/ibr_locations.html.

Issued in Renton, Washington, on March 24, 2005.
Ali Bahrami,
Manager, Transport Airplane Directorate, Aircraft Certification Service.

[FR Doc. 05-6685 Filed 4-6-05; 8:45 am]

BILLING CODE 4910-13-P